DEPARTMENT OF LABOR

Employment and Training Administration

[TA-W-63,192]

Shiloh Industries, Liverpool Manufacturing Division, Valley City, OH; Notice of Revised Determination on Reconsideration

On July 25, 2008, the Department issued a negative determination regarding workers' eligibility to apply for Trade Adjustment Assistance (TAA) and Alternative Trade Adjustment Assistance (ATAA) applicable to workers and former workers of Shiloh Industries, Liverpool Manufacturing Division, Valley City, Ohio (subject firm). The notice of determination was published in the Federal Register on August 12, 2008 (73 FR 46924).

The petition for TAA and ATAA, dated April 14, 2008, was filed on behalf of the subject worker group by a representative of the International Union, United Automobile, Aerospace and Agricultural Implement Workers of America—United Auto Workers, Region 2-B (Union). The subject worker group produces automotive stampings and weldments (a unit formed by welding together an assembly of pieces). Workers are not separately identifiable by product line.

The negative determination stated that the subject firm did not import automotive stampings and weldments in 2006 through March 2008, and did not shift production to a foreign country during the relevant period. The Department's survey of the subject firm's largest customers revealed that no customer which contributed significantly to the subject firm's sales decline increased its imports during the relevant period. U.S. aggregate imports of motor vehicle metal stampings decreased in January through May 2008 compared with the corresponding 2007 period.

The request for reconsideration alleges that the subject firm out-sourced to a foreign company the production of valve covers (a specific type of automotive stamping) and that the subject firm “may have lost work” to another domestic company, and that this domestic competitor “may be TAA eligible.”

A careful review of previously-submitted information revealed that the Department investigated whether the subject firm had shifted production of automotive stampings or weldments to a foreign country or have scheduled any such shift, and that the subject firm did not and is not scheduled to shift production. The review also revealed that a major declining customer increased their reliance on foreign-produced automotive stampings while decreasing purchases from the subject firm.

In accordance with Section 246 the Trade Act of 1974 (26 U.S.C. 2813), as amended, the Department herein presents the results of its investigation regarding certification of eligibility to apply for ATAA. The Department has determined in this case that the group eligibility requirements of Section 246 have been met.

A significant number of workers at the firm are age 50 or over and possess skills that are not easily transferable. Competitive conditions within the industry are adverse.

Conclusion

After careful review of the facts obtained during the reconsideration investigation, I determine that increases of imports of articles like or directly competitive with automotive stampings produced at the subject firm contributed importantly to the total or partial separation of the subject workers and to the decline in sales or production at that firm or subdivision. In accordance with the provisions of the Act, I make the following certification:

“All workers of Shiloh Industries, Liverpool Manufacturing Division, Valley City, Ohio, who became totally or partially separated from employment on or after April 14, 2007 through two years from the date of this certification, are eligible to apply for adjustment assistance under Section 223 of the Trade Act of 1974, and are eligible to apply for alternative trade adjustment assistance under Section 246 of the Trade Act of 1974.”

Signed at Washington, DC, this 15th day of September 2008.
Elliott S. Kushner,
Certifying Officer, Division of Trade Adjustment Assistance.

[FR Doc. E8-22124 Filed 9-22-08; 8:45 am]

BILLING CODE 4510-FN-P